DEPARTMENT OF ENERGY

Federal Energy Regulatory Commission

Combined Notice of Filings

Take notice that the Commission has received the following Natural Gas Pipeline Rate and Refund Report filings:

Filings Instituting Proceedings

Docket Number: PR16-59-000.

Applicants: Rocky Mountain Natural Gas LLC.

Description: Tariff filing per 284.123(b)(1),: Revised Statement of Operating Conditions to be effective 6/16/2016; Filing Type: 1000.

Filed Date: 6/15/2016.

Accession Number: 201606155101.

Comments/Protests Due: 5 p.m. ET 7/6/16.

Docket Numbers: RP16-1027-000.

Applicants: DBM Pipeline, LLC.

Description: § 4(d) Rate Filing: Negotiated Rate Filing to be effective 7/1/2016.

Filed Date: 6/15/16.

Accession Number: 20160615-5030.

Comments Due: 5 p.m. ET 6/27/16.

Docket Numbers: RP16-1028-000.

Applicants: Gulf South Pipeline Company, LP.

Description: § 4(d) Rate Filing: Superseding Neg Rate Agmt (Entergy NO 35233) to be effective 4/1/2016.

Filed Date: 6/15/16.

Accession Number: 20160615-5036.

Comments Due: 5 p.m. ET 6/27/16.

Docket Numbers: RP16-1029-000.

Applicants: Cheyenne Plains Gas Pipeline Company LLC.

Description: Permanent Capacity Release Waiver Request of Cheyenne Plains Gas Pipeline Company, L.L.C.

Filed Date: 6/15/16.

Accession Number: 20160615-5148.

Comments Due: 5 p.m. ET 6/27/16.

Docket Numbers: RP16-1030-000.

Applicants: ANR Storage Company.

Description: Petition for Approval of Settlement and Request for Shortened Comment Period and Stipulation and Agreement of ANR Storage Company.

Filed Date: 6/16/16.

Accession Number: 20160616-5161.

Comments Due: 5 p.m. ET 6/23/16.

Docket Numbers: RP16-1031-000.

Applicants: Dominion Carolina Gas Transmission, LLC.

Description: Compliance filing DCGT—Baseline Filing of FERC Gas Tariff to be effective 6/17/2016.

Filed Date: 6/17/16.

Accession Number: 20160617-5024.

Comments Due: 5 p.m. ET 6/29/16.

Docket Numbers: RP16-1032-000.

Applicants: Viking Gas Transmission Company.

Description: § 4(d) Rate Filing: Revision to IT Form of Service Agreement to be effective 7/18/2016.

Filed Date: 6/17/16.

Accession Number: 20160617-5031.

Comments Due: 5 p.m. ET 6/29/16.

Docket Numbers: RP16-1033-000.

Applicants: Viking Gas Transmission Company.

Description: § 4(d) Rate Filing: Update Non-Conforming and Negotiated Rate Agreements to be effective 7/18/2016.

Filed Date: 6/17/16.

Accession Number: 20160617-5073.

Comments Due: 5 p.m. ET 6/29/16.

Docket Numbers: RP16-1034-000.

Applicants: Dominion Carolina Gas Transmission, LLC.

Description: Tariff Cancellation: DCGT—Cancellation of FERC Gas Tariff, Second Volume Nos. 1 and 1.1 to be effective 6/17/2016.

Filed Date: 6/17/16.

Accession Number: 20160617-5074.

Comments Due: 5 p.m. ET 6/29/16.

Docket Numbers: RP16-1035-000.

Applicants: Guardian Pipeline, L.L.C.

Description: § 4(d) Rate Filing: Update Statement of Negotiated Rates to be effective 7/18/2016.

Filed Date: 6/17/16.

Accession Number: 20160617-5075.

Comments Due: 5 p.m. ET 6/29/16.

Docket Numbers: RP16-1036-000.

Applicants: Guardian Pipeline, L.L.C.

Description: § 4(d) Rate Filing: Update Non-Conforming and Negotiated Rate Agreements to be effective 7/18/2016.

Filed Date: 6/17/16.

Accession Number: 20160617-5087.

Comments Due: 5 p.m. ET 6/29/16.

Docket Numbers: RP16-1037-000.

Applicants: SWN Energy Services Company, LLC, Antero Resources Corporation.

Description: Joint Petition of SWN Energy Services Company, LLC and Antero Resources Corporation for Temporary Waiver of Capacity Release Regulations and Policies and Related Pipeline Tariff Provisions, and Request for Shortened Comment Period and Expedited Treatment.

Filed Date: 6/17/16.

Accession Number: 20160617-5123.

Comments Due: 5 p.m. ET 6/24/16.

Docket Numbers: RP16-1038-000.

Applicants: Dominion Carolina Gas Transmission, LLC.

Description: § 4(d) Rate Filing: DCGT—System Map URL to be effective 7/17/2016.

Filed Date: 6/17/16.

Accession Number: 20160617-5148.

Comments Due: 5 p.m. ET 6/29/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-131-003.

Applicants: Gulf South Pipeline Company, LP.

Description: Compliance filing 2nd Compliance Filing in RP16-131-000 to be effective 4/1/2016.

Filed Date: 5/20/16.

Accession Number: 20160520-5034.

Comments Due: 5 p.m. ET 6/23/16.

Docket Numbers: RP16-1026-001.

Applicants: Transcontinental Gas Pipe Line Company.

Description: Tariff Amendment: Virtual Measurement Points—CORRECTION to be effective 7/16/2016.

Filed Date: 6/15/16.

Accession Number: 20160615-5105.

Comments Due: 5 p.m. ET 6/27/16.

Docket Numbers: RP16-292-002.

Applicants: Alliance Pipeline L.P.

Description: Compliance filing Reinstate AOS Revised to be effective 12/1/2015.

Filed Date: 6/17/16.

Accession Number: 20160617-5091.

Comments Due: 5 p.m. ET 6/29/16.

Docket Numbers: RP16-981-001.

Applicants: Portland Natural Gas Transmission System.

Description: Tariff Amendment: Amendment to RP16-981-000 to be effective 6/27/2016.

Filed Date: 6/17/16.

Accession Number: 20160617-5130.

Comments Due: 5 p.m. ET 6/29/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated June 20, 2016.
Nathaniel J. Davis, Sr.,
Deputy Secretary.

[FR Doc. 2016-15274 Filed 6-28-16; 8:45 am]

BILLING CODE 6717-01-P